DEPARTMENT OF THE INTERIOR

National Park Service

[NPS-WASO-NAGPRA-20923; PPWOCRADN0-PCU00RP14.R50000]

Notice of Inventory Completion: The American Museum of Natural History, New York, NY; Correction

AGENCY: National Park Service, Interior.

ACTION: Notice; correction.

SUMMARY: The American Museum of Natural History has revised a Notice of Inventory Completion that was published in the Federal Register on January 16, 2014. This notice corrects the minimum number of individuals. Lineal descendants or representatives of any Indian tribe or Native Hawaiian organization not identified in this notice that wish to request transfer of control of these human remains and associated funerary objects should submit a written notification to the American Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains should submit a written request with information in support of the request to the American Museum of Natural History at the address in this notice by June 10, 2016.

ADDRESSES: Nell Murphy, Director of Cultural Resources, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the revision of a Notice of Inventory Completion for human remains under the control of the American Museum of Natural History, New York, NY. The human remains were removed from the Sebonac site, Shinnecock Hills, Suffolk County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals published in a Notice of Inventory Completion in the Federal Register (79 FR 2876-2877, January 16, 2014). Transfer of control of the items in this correction notice has not occurred.

Correction

In the Federal Register (79 FR 2877, January 16, 2014), column 1, paragraph 2, sentence 1 has been revised by substituting the following sentence:

In 1902, human remains representing, at minimum, 16 individuals, including 1 adult female, 2 adults of unknown sex, and 13 subadults of unknown sex, were removed from the Sebonac site, Shinnecock Hills, Suffolk County, NY, during Raymond M. Harrington's excavations, sponsored by Frederick Ward Putnam and the American Museum of Natural History.

In the Federal Register (79 FR 2877, January 16, 2014), column 2, paragraph 2, sentence 1 has been revised by substituting the following sentence:

Pursuant to 25 U.S.C. 3001(9), the human remains described in this notice represent the physical remains of 16 individuals of Native American ancestry.

Additional Requestors and Disposition

Representatives of any Indian tribe or Native Hawaiian organization not identified in this notice that wish to request transfer of control of these human remains should submit a written request with information in support of the request to Nell Murphy, Director of Cultural Resources, American Museum of Natural History, Central Park West at 79th Street, NY, NY 10024, telephone (212) 769-5837, email nmurphy@amnh.org, by June 10, 2016. After that date, if no additional requestors have come forward, transfer of control of the human remains to The Tribes may proceed.

The American Museum of Natural History is responsible for notifying The Tribes listed in the January 16, 2014 notice, that this correction notice has been published.

Dated: April 21, 2016.
Melanie O'Brien,
Manager, National NAGPRA Program.

[FR Doc. 2016-11088 Filed 5-10-16; 8:45 am]

BILLING CODE 4312-50-P